GENERAL SERVICES ADMINISTRATION

Office of Governmentwide Policy; Cancellation of Standard Form by the Department of the Treasury

AGENCY: Office of Governmentwide Policy, GSA.

ACTION: Notice.

SUMMARY: The Department of the Treasury cancelled the following Standard Form:

SF 1034A, Public Voucher for Purchases and Services Other Than Personal.

This form is no longer required by Treasury.

DATES: Effective July 18, 2005.

FOR FURTHER INFORMATION CONTACT: Renee Speed, Department of the Treasury, (202) 622-2784.

Dated: July 8, 2005.
Barbara M. Williams,
Standard and Optional Forms Management Officer, General Services Administration.

[FR Doc. 05-14018 Filed 7-15-05; 8:45 am]

BILLING CODE 6820-34-M